DEPARTMENT OF HOMELAND SECURITY

Transportation Security Administration

Intent To Request Renewal From OMB of One Current Public Collection of Information: Aircraft Operator Security

AGENCY: Transportation Security Administration, DHS.

ACTION: 60-day notice.

SUMMARY: The Transportation Security Administration (TSA) invites public comment on one currently approved Information Collection Request (ICR), Office of Management and Budget (OMB) control number 1652-0003, abstracted below, that TSA will submit to OMB for renewal in compliance with the Paperwork Reduction Act (PRA). The ICR describes the nature of the information collection and its expected burden. Aircraft operators must adopt and implement a TSA-approved security program. These programs require aircraft operators to maintain and update records to ensure compliance with security provisions outlined in 49 CFR part 1544.

DATES: Send your comments by March 26, 2012.

ADDRESSES: Comments may be mailed or delivered to Joanna Johnson, Business Management Office, Office of Information Technology, TSA-11, Transportation Security Administration, 601 South 12th Street, Arlington, VA 20598-4220.

FOR FURTHER INFORMATION CONTACT: Joanna Johnson at the above address, or by telephone (571) 227-3651 or facsimile (571) 227-2907.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http;//www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0003; Security Programs for Aircraft Operators, 49 CFR part 1544. The information collected is used to determine compliance with 49 CFR part 1544 and to ensure passenger safety by monitoring aircraft operator security procedures. TSA is seeking to renew its OMB control number, 1652-0003, Aircraft Operator Security. TSA has implemented aircraft operator security standards at 49 CFR part 1544 to require each aircraft operator to which this part applies to adopt and carry out a security program. These TSA-approved security programs establish procedures that aircraft operators must carry out to protect persons and property traveling on flights provided by the aircraft operator against acts of criminal violence, aircraft piracy, and the introduction of explosives, incendiaries, or weapons aboard an aircraft.

This information collection is mandatory for aircraft operators. As part of their security programs, affected aircraft operators are required to maintain and update, as necessary, records of compliance with the security program provisions set forth in 49 CFR part 1544. This regulation also requires affected aircraft operators to submit security program amendments to TSA when applicable and to make their security programs and associated records available for inspection and copying by TSA to ensure transportation security and regulatory compliance.

The information requested of aircraft operators has increased due to the security measures mandated by the Federal Government since September 11, 2001. The information TSA now collects includes identifying information on aircraft operators' flight crews, passengers and cargo. Specifically, TSA requires aircraft operators to submit the following information: (1) A master crew list of all flight and cabin crew members flying to and from the United States; (2) the flight crew list on a flight-by-flight basis; (3) passenger information on a flight-by-flight basis; (4) total amount of cargo screened; and (5) total amount of cargo screened at 100%. Aircraft operators may provide the information electronically or manually. Under this regulation, aircraft operators must ensure that flight crew members and employees with unescorted access authority to a Security Identification Display Area (SIDA) or who perform screening, checked baggage, or cargo functions submit to and receive a criminal history records check (CHRC). As part of the CHRC process, the individual must provide identifying information, including fingerprints. Additionally, aircraft operators must maintain these records, and records associated with compliance with Security Directives, and make them available to TSA for inspection and copying upon request.

TSA estimates that there will be approximately 800 respondents to the information requirements described above, requiring approximately 1,841,130 hours per year to process.

Issued in Arlington, Virginia, on January 20, 2012.
Joanna Johnson,
Paperwork Reduction Officer, Office of Information Technology.

[FR Doc. 2012-1609 Filed 1-25-12; 8:45 am]

BILLING CODE 9110- 05-P